NATIONAL ARCHIVES AND RECORDS ADMINISTRATION

[NARA-24-0020; NARA-2024-055]

Records Schedules; Availability and Request for Comments

AGENCY: National Archives and Records Administration (NARA).

ACTION: Notice of availability of proposed records schedules; request for comments.

SUMMARY: The National Archives and Records Administration (NARA) publishes notice of certain Federal agency requests for records disposition authority (records schedules). We publish notice in the Federal Register and on regulations.gov for records schedules in which agencies propose to dispose of records they no longer need to conduct agency business. We invite public comments on such records schedules.

DATES: We must receive responses on the schedules listed in this notice by November 1, 2024.

ADDRESSES: To view a records schedule in this notice, or submit a comment on one, use the following address: https://www.regulations.gov/docket/NARA-24-0020/document. This is a direct link to the schedules posted in the docket for this notice on regulations.gov. You may submit comments by the following method:

Federal eRulemaking Portal: https://www.regulations.gov. On the website, enter either of the numbers cited at the top of this notice into the search field. This will bring you to the docket for this notice, in which we have posted the records schedules open for comment. Each schedule has a `comment' button so you can comment on that specific schedule. For more information on regulations.gov and on submitting comments, see their FAQs at https://www.regulations.gov/faq.

If you are unable to comment via regulations.gov, you may email us at request.schedule@nara.gov for instructions on submitting your comment. You must cite the control number of the schedule you wish to comment on. You can find the control number for each schedule in parentheses at the end of each schedule's entry in the list at the end of this notice.

FOR FURTHER INFORMATION CONTACT: Kimberly Richardson, Strategy and Performance Division, by email at regulation_comments@nara.gov or at 301-837-2902. For information about records schedules, contact Records Management Operations by email at request.schedule@nara.gov or by phone at 301-837-1799.

SUPPLEMENTARY INFORMATION:

Public Comment Procedures

We are publishing notice of records schedules in which agencies propose to dispose of records they no longer need to conduct agency business. We invite public comments on these records schedules, as required by 44 U.S.C. 3303a(a), and list the schedules at the end of this notice by agency and subdivision requesting disposition authority.

In addition, this notice lists the organizational unit(s) accumulating the records or states that the schedule has agency-wide applicability. It also provides the control number assigned to each schedule, which you will need if you submit comments on that schedule. We have uploaded the records schedules and accompanying appraisal memoranda to the regulations.gov docket for this notice as “other” documents. Each records schedule contains a full description of the records at the file unit level as well as their proposed disposition. The appraisal memorandum for the schedule includes information about the records.

We will post comments, including any personal information and attachments, to the public docket unchanged. Because comments are public, you are responsible for ensuring that you do not include any confidential or other information that you or a third party may not wish to be publicly posted. If you want to submit a comment with confidential information or cannot otherwise use the regulations.gov portal, you may contact request.schedule@nara.gov for instructions on submitting your comment.

We will consider all comments submitted by the posted deadline and consult as needed with the Federal agency seeking the disposition authority. After considering comments, we may or may not make changes to the proposed records schedule. The schedule is then sent for final approval by the Archivist of the United States. After the schedule is approved, we will post on regulations.gov a “Consolidated Reply” summarizing the comments, responding to them, and noting any changes we made to the proposed schedule. You may elect at regulations.gov to receive updates on the docket, including an alert when we post the Consolidated Reply, whether or not you submit a comment. If you have a question, you can submit it as a comment, and can also submit any concerns or comments you would have to a possible response to the question. We will address these items in consolidated replies along with any other comments submitted on that schedule.

We will post schedules on our website in the Records Control Schedule (RCS) Repository, at https://www.archives.gov/records-mgmt/rcs, after the Archivist approves them. The RCS contains all schedules approved since 1973.

Background

Each year, Federal agencies create billions of records. To control this accumulation, agency records managers prepare schedules proposing retention periods for records and submit these schedules for NARA's approval. Once approved by NARA, records schedules provide mandatory instructions on what happens to records when no longer needed for current Government business. The records schedules authorize agencies to preserve records of continuing value in the National Archives or to destroy, after a specified period, records lacking continuing administrative, legal, research, or other value. Some schedules are comprehensive and cover all the records of an agency or one of its major subdivisions. Most schedules, however, cover records of only one office or program or a few series of records. Many of these update previously approved schedules, and some include records proposed as permanent.

Agencies may not destroy Federal records without the approval of the Archivist of the United States. The Archivist grants this approval only after thorough consideration of the records' administrative use by the agency of origin, the rights of the Government and of private people directly affected by the Government's activities, and whether or not the records have historical or other value. Public review and comment on these records schedules is part of the Archivist's consideration process.

Schedules Pending

1. Department of Energy, Southeastern Power Administration, Power Marketing and Contracts Program (DAA-0388-2024-0004).

2. Department of Health and Human Services, Department-Wide, Audiovisual Records (DAA-0468-2024-0001).

3. Department of Health and Human Services, Health Resources and Services Administration, Clofazimine Clinical Trial Records (DAA-0512-2024-0004).

4. Department of the Interior, United States Fish and Wildlife Service, Legacy Email (DAA-0022-2024-0001).

5. Department of State, Office of Management Strategy and Solutions, Consolidated Schedule Records of Strategy and Solutions (DAA-0059-2020-0025).

6. Department of Transportation, Federal Aviation Administration, Service Difficulty Reporting System (DAA-0237-2023-0006).

7. Department of Transportation, Office of the Secretary, Volpe Program and Project Records (DAA-0398-2024-0002).

8. Department of Transportation, Pipeline and Hazardous Materials Safety Administration, Geographic Information System Data (DAA-0571-2024-0002).

9. Department of the Treasury, Internal Revenue Service, Criminal NonCompliance Investigative Activities (DAA-0058-2024-0005).

10. Federal Energy Regulatory Commission, Agency-wide, Annual Report for Natural Gas Transactions (DAA-0138-2024-0015).

11. Federal Energy Regulatory Commission, Agency-wide, Holding Companies Dockets (DAA-0138-2024-0013).

12. Library of Congress, Agency-wide, Budget Accounting and Financial Management 2024 Updates (DAA-0297-2024-0004).

13. Library of Congress, Agency-wide, Communication 2024 Updates (DAA-0297-2024-0010).

14. Library of Congress, Agency-wide, Copyright 2024 Updates (DAA-0297-2024-0001).

15. Library of Congress, Agency-wide, Mission and Organization 2024 Updates (DAA-0297-2024-0003).

William P. Fischer,
Acting Chief Records Officer for the U.S. Government.

[FR Doc. 2024-20962 Filed 9-13-24; 8:45 am]

BILLING CODE 7515-01-P